DEPARTMENT OF TRANSPORTATION

Federal Aviation Administration

14 CFR Part 71

[Airspace Docket No. 00-ACE-25]

Establishment of Class D and Class E Airspace, and Amendment to Class E Airspace; Garden City, KS

AGENCY: Federal Aviation Administration (FAA), DOT.

ACTION: Final rule.

SUMMARY: This action establishes a Class D airspace area, a Class E surface area extension and amends the Class E surface area from full time to part time status at Garden City Regional Airport, Garden City, KS. An Airport Traffic Control Tower (ATCT) is being established at Garden City Regional Airport and surface areas are necessary to provide controlled airspace for the safe and efficient operation of aircraft operating into and out of the Garden City Regional Airport. This action establishes controlled surface areas at Garden City Regional Airport. The effect of this rule is to provide a Class D airspace area, a Class E surface area extension, and amend the Class E surface area from full time to part time status.

EFFECTIVE DATE: 0901 UTC, November 30, 2000.

FOR FURTHER INFORMATION CONTACT: Kathy Randolph, Air Traffic Division, Airspace Branch, ACE-520c, DOT Regional Headquarters Building, Federal Aviation Administration, 901 Locust, Kansas City, MO 64106; telephone (816) 329-2525.

SUPPLEMENTARY INFORMATION:

History

On August 9, 2000, the FAA proposed to amend Part 71 of Title 14 of the Federal Regulations (14 CFR part 71) by establishing a Class D airspace area, a Class E surface area extension and amends the Class E surface area from full time to part time status at Garden City, KS (65 FR 48651). The proposed action was to provide controlled airspace for the safe and efficient operation of aircraft operating into and out of the Garden City Regional Airport.

Interested parties were invited to participate in this rulemaking proceeding by submitting written comments on the proposal to the FAA. No comments objecting to the proposal were received. Class D airspace areas designated for an airport that contain at least one primary airport around which the airspace is designated are published in paragraph 5000, Class E airspace areas designated as a surface area for an airport are published in paragraph 6002, and Class E airspace areas designated as an extension to Class D airspace areas are published in paragraph 6004 of FAA Order 7400.9H, dated September 1, 2000, and effective September 16, 2000, which is incorporated by reference in 14 CFR 71.1. The airspace designation listed in this document will be published subsequently in the Order.

The Rule

This amendment to part 71 of Title 14 of the Federal Regulations (14 CFR part 71) establishes a Class D airspace area, a Class E surface area extension and amends the Class E surface area from full time to part time status at Garden City Regional Airport, Garden City, KS. An ATCT is being established at Garden City Regional Airport and Class D and Class E surface areas are necessary for the safe and efficient operation of aircraft in the vicinity of the airport. The area will be depicted on appropriate aeronautical charts.

The FAA has determined that this regulation only involves an established body of technical regulation for which frequent and routine amendments are necessary to keep them operationally current. Therefore, this regulation (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Aviation, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 289.

§ 71.1 [Amended]

2. The incorporation by reference in 14 CFR 71.1 of Federal Aviation Administration Order 7400.9H, Airspace Designations and Reporting Points, dated September 1, 2000, and effective September 16, 2000, is amended as follows:

Paragraph 5000 Class D airspace area designated for an airport that contains at least one primary airport around which the airspace is designated.

* * * * *

ACE KS D Garden City, KS [New]

Garden City Regional Airport, KS

(lat 37°55′39″N., long. 100°43′28″W.)

Garden City VORTAC

(lat 37°55′09′N., long. 100°43′30″W.)

That airspace extending upward from the surface to and including 5400 feet MSL within a 4.3-mile radius of the Garden City Regional Airport. This Class D airspace area is effective during the specific dates and times established in advance by a Notice to Airmen. The effective date and time will thereafter be continuously published in the Airport/Facility Directory.

* * * * *

Paragraph 6002 Class E airspace designated as a surface area for an airport.

* * * * *

ACE KS E2 Garden City, KS [Revised]

Garden City Regional Airport, KS

(lat 37°55′39″N., long. 100°43′28″W.)

Garden City VORTAC

(lat 37°55′09″N., long. 100°43′30″W.)

That airspace within a 4.3-mile radius of the Garden City Regional Airport and within 2.2 miles each side of the Garden City VORTAC 004° radial extending from the 4.3-mile radius of the Garden City Regional Airport to 7 miles north of the VORTAC and within 2.2 miles each side of the Garden City VORTAC 171° radial extending from the 4.3-mile radius of the Garden City Regional Airport to 5 miles south of the VORTAC. This Class E airspace area is effective during the specific dates and times established in advance by a Notice to Airmen. The effective date and time will thereafter be continuously published in the Airport/Facility Directory.

* * * * *

Paragraph 6004 Class E airspace areas designated as an extension to a Class D airspace area.

* * * * *

ACE KS E4 Garden City, KS [New]

Garden City Regional Airport, KS

(lat 37°55′39″N., long. 100°43′28″W.)

Garden City VORTAC

(lat 37°55′09″N., long. 100°43′30″W.)

That airspace extending upward within 2.2 miles each side of the Garden City VORTAC 004° radial extending from 4.3-mile radius of the Garden City Regional Airport to 7 miles north of the VORTAC and within 2.2 miles each side of the Garden City VORTAC 171° radial extending from the 4.3-mile radius of the Garden City Regional Airport to 5 miles south of the VORTAC. This Class E airspace area is effective during the specific dates and times established in advance by a Notice to Airmen. The effective date and time will thereafter be continuously published in the Airport/Facility Director.

* * * * *

Issued in Kansas City, MO, on October 6, 2000.
Richard L. Day,
Acting Manager, Air Traffic Division, Central Region.

[FR Doc. 00-26953 Filed 10-24-00; 8:45 am]

BILLING CODE 4910-13-M